CHEMICAL SAFETY AND HAZARD INVESTIGATION BOARD

Sunshine Act Meeting—September 24, 2009—6:30 pm

In connection with its investigation into the cause of a February 7, 2008, an explosion and fire at the Imperial Sugar refinery northwest of Savannah, Georgia, the Chemical Safety and Hazard Investigation Board announces that it will convene a public meeting on September 24, 2009, starting at 6:30 pm at the Hilton Savannah DeSoto—15 East Liberty Street, Savannah, Georgia.

At the meeting CSB staff will present to the Board the results of their investigation into this incident. Key issues involved in the investigation concern combustible dust hazard recognition, minimizing combustible dust accumulation in the workplace, and equipment design and maintenance. This will be followed by a public comment period prior to a Board vote on the report.

Incident: On February 7, 2008, at about 7:15 p.m., a series of sugar dust explosions at the Imperial Sugar manufacturing facility in Port Wentworth, Georgia, resulted in 14 worker fatalities and 36 injuries. Eight workers died at the scene and six eventually succumbed to their injuries at the Augusta Burn Center. The explosions and subsequent fires destroyed the sugar packing buildings, palletizer room, and silos, and severely damaged the bulk train car loading area and parts of the sugar refinery.

Following the staff presentation and the conclusion of the public comment period, the Board will consider whether to approve the final report and recommendations. All staff presentations are preliminary and are intended solely to allow the Board to consider in a public forum the issues and factors involved in this case. No factual analyses, conclusions or findings presented by staff should be considered final. Only after the Board has considered the final staff presentation, listened to the witnesses and the public comments and approved the staff report will there be an approved final record of this incident.

The meeting will be open to the public. Please notify CSB if a translator or interpreter is needed, at least 5 business days prior to the public meeting. For more information, please contact the Chemical Safety and Hazard Investigation Board at (202)-261-7600, or visit our Web site at: www.csb.gov.

Christopher W. Warner,
General Counsel.

[FR Doc. E9-21127 Filed 8-28-09; 11:15 am]

BILLING CODE 6350-01-P